DEPARTMENT OF DEFENSE

Office of the Secretary

Submission for OBM Review; Comment Request

ACTION: Notice.

The Department of Defense has submitted to OMB for clearance, the following proposal for collection of information under the provisions of the Paperwork Reduction Act (44 U.S.C. Chapter 35).

DATES: Consideration will be given to all comments received by December 8, 2004.

Title and OMB Number: Viability of TRICARE Standard Survey; OMB Number 0720-0031.

Type of Request: Extension.

Number of Respondents: 25,165.

Responses Per Respondent: 1.

Annual Responses: 25,165.

Average Burden Per Response: 10 minutes.

Annual Burden Hours: 4,194.

Needs and Uses: As mandated by Congress, confidential surveys of civilian physicians will be completed in TRICARE market areas within the United States to determine how many accept new TRICARE Standard patients in each market area. 20 TRICARE market areas in the United States will be conducted each fiscal year until all TRICARE market areas in the United States have been surveyed.

Affected Public: Individuals or households.

Frequency: On occasion.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

DoD Clearance Officer: Mr. Robert Cushing.

Written requests for copies of the information collection proposal should be sent to Mr. Cushing, WHS/ESCD/Information Management Division, 1225 South Clark Street, Suite 504, Arlington, VA 22202-4326.

Dated: October 29, 2004.
Patricia L. Toppings,
Alternate OSD Federal Register Liaison Office, Department of Defense.

[FR Doc. 04-24784 Filed 11-5-04; 8:45 am]

BILLING CODE 5001-06-M